FEDERAL COMMUNICATIONS COMMISSION

[OMB 3060-XXXX; FR ID 265489]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before January 3, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page https://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Application to Participate in a 5G Fund Auction, FCC Form 184.

Form Number: FCC Form 184.

Type of Review: New collection.

Respondents: Business or other for-profit entities, not-for-profit institutions, and State, local or Tribal governments.

Number of Respondents and Responses: 300 respondents and 300 responses.

Estimated Time per Response: 7 hours.

Frequency of Response: On occasion reporting requirement.

Obligation to Respond: Required to obtain or retain benefits. Statutory authority for this information collection is 47 U.S.C. 154, 254 and 303(r).

Total Annual Burden: 2,100 hours.

Total Annual Cost: No cost.

Needs and Uses: The Commission will use the information collected under this information collection to determine whether applicants are qualified to participate in a 5G Fund auction.

In its November 2011 USF/ICC Transformation Order, the Commission took numerous steps to comprehensively reform and modernize the universal service program to ensure that robust, affordable fixed and mobile voice and broadband service are available to those in rural, insular, and high cost areas of the country. Connect America Fund et al., Order and Further Notice of Proposed Rulemaking, FCC 11-161 (USF/ICC Transformation Order). Among other things, the Commission (1) established a two-phased Mobility Fund to award universal service support for mobile services in a cost-effective manner to no more than one provider per area in areas where a private-sector business case was lacking, (2) directed that universal service support under the Mobility Fund be awarded by competitive bidding, (3) adopted the rules and framework for Mobility Fund Phase I, and (4) sought comment on the rules and proposed framework for Mobility Fund Phase II. In its February 2017 Mobility Fund Phase II Report and Order, the Commission adopted the rules and framework for Mobility Fund Phase II to provide ongoing universal service support over a ten-year term to areas of the country unlikely to receive 4G LTE service absent subsidies, along with the framework for a challenge process to resolve disputes about areas that were found to be presumptively ineligible for support. Connect America Fund; Universal Service Reform—Mobility Fund II, Report and Order and Further Notice of Proposed Rulemaking, FCC 17-11. However, in its October 2020 5G Fund Report and Order, the Commission established the 5G Fund as a replacement for Mobility Fund Phase II, and adopted the framework and rules for the 5G Fund to award universal service support in two phases through separate reverse auctions to ensure the deployment of high-speed, 5G mobile service in areas unlikely to see such service absent subsidies. Establishing a 5G Fund for Rural America, Report and Order, FCC 20-150 (5G Fund Report and Order). In the 5G Fund Report and Order, the Commission, among other things, adopted a two-stage application process for 5G Fund auctions consisting of pre-auction requirements for applicants seeking to participate in a 5G Fund auction and post-auction requirements for winning bidders applying for 5G Fund support. The Commission decided that applicants seeking to participate in a 5G Fund auction would be required to provide both the information required by section 1.21001(b) of the Commission's existing Part 1, Subpart AA universal service competitive bidding rules, 47 CFR 1.21001(b), and the additional application disclosures and certifications specific to the 5G Fund required by § 54.1014(a) of the Commission's rules, 47 CFR 54.1014(a). In its recent 5G Fund Second Report and Order (FCC 24-89), the Commission adopted an additional requirement that each applicant seeking to participate in the 5G Fund Phase I auction certify in its application that it has read the public notice adopting procedures for the auction and that it has familiarized itself both with the auction procedures and with the requirements, terms, and conditions associated with the receipt of 5G Fund support.

Under this new information collection, the Commission will collect the information, disclosures, and certifications required by §§ 1.21001(b) and 54.1014(a) of the Commission's rules from each applicant seeking to participate in a 5G Fund auction, and will use the information, disclosures, and certifications to determine whether an applicant is legally, technically, and financially qualified to participate in a 5G Fund auction. To aid in collecting this information, the Commission has created FCC Form 184, which will be used to provide the information, disclosures, and certifications required by §§ 1.21001(b) and 54.1014(a). Commission staff will review the information, disclosures, and certifications collected on FCC Form 184 as part of the pre-auction process, prior to the start of the auction, and determine whether each applicant satisfies the Commission's requirements to participate in an auction for 5G Fund support. Without the information collected on FCC Form 184, the Commission will not be able to determine if an applicant is legally qualified to participate in a 5G Fund auction and has complied with the various applicable regulatory and statutory auction requirements for such participation. This approach provides an appropriate screen to ensure serious participation without being unduly burdensome.

Federal Communications Commission.
Marlene Dortch,
Secretary, Office of the Secretary.

[FR Doc. 2024-28385 Filed 12-3-24; 8:45 am]

BILLING CODE 6712-01-P